DEPARTMENT OF HEALTH AND HUMAN SERVICES

Centers for Disease Control and Prevention

Reorganization of the Strategic Business Initiatives Unit

AGENCY: Centers for Disease Control and Prevention (CDC), the Department of Health and Human Services (HHS).

ACTION: Notice.

SUMMARY: CDC has modified its structure. This notice announces the reorganization of the Strategic Business Initiatives Unit (SBI). SBI converted from an activity within the Office of the Director of the Office of the Chief Operating Officer to a stand-alone business service office known as the Office of Strategic Business Initiatives.

DATES: This reorganization was approved by the Director of CDC on June 28, 2023.

FOR FURTHER INFORMATION CONTACT: Kimberly Thurmond, Office of the Chief Operating Officer, Office of the Director, Centers for Disease Control and Prevention, 1600 Clifton Road NE, MS TW-2, Atlanta, GA 30329. Telephone 770-488-4401; Email: reorgs@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 88 FR 9290-9291, dated February 13, 2023) is amended to reflect the reorganization of the Strategic Business Initiatives Unit within the Office of the Chief Operating Officer, Centers for Disease Control and Prevention. Specifically, the changes are as follows:

I. Under Part C, Section C-B, Organization and Functions, after the Office of Safety, Security and Asset Management (CAJS) insert the following:

• Strategic Business Initiatives (CAJT)

• Office of the Director (CAJT1)

• Management Operations Activity (CAJT12)

• Office of Business Integrity and Strategic Management (CAJTB)

• Office of the Federal Advisory Committee Act Program (CAJTC)

• Office of Management Analysis (CAJTD)

• Office of Transformation and Change Management (CAJTE)

II. Under Part C, Section C-B, Organization and Functions, retitle the following organizational units:

• Strategic Business Initiatives (CAJT) to the Office of Strategic Business Initiatives (CAJT)

III. Under Part C, Section C-B, Organization and Functions, add the following functional statements:

Strategic Business Initiatives (CAJT). (1) serves as the lead organizational entity delivering risk management training and support across CDC, providing Federal Advisory Committee Act program management, including assessments of applicability and guidance to all committees, boards and other groups established by law; (2) strengthens CDC's administrative guidance and change management through agency-wide conference, gift, policy, delegations of authority, organization and functions, and records management; (3) establishes a capability to deliver transformation and change management to the Office of the Chief Operating Officer (OCOO), the CDC and the Agency for Toxic Substances; and (4) serves as liaison to the HHS Office of Inspector General (OIG) on fraud, waste, and abuse allegations and fact finding.

Office of the Director (CAJT1). (1) directs, manages, coordinates and evaluates the programs and activities of the Office of Strategic Business Initiatives (SBI) I; (2) develops goals and objectives, and provides leadership, policy formulation, and guidance in program planning and development; (3) provides advice and counsel to the CDC Immediate Office of the Director (IOD), the COO, and other senior IOD and Centers, Institute, and Offices officials on all SBI programs and activities; (4) provides quality assurance and continuous improvement by establishing a framework for process improvement associated with all SBI functions; (5) conducts quality improvement audits on all SBI program areas of responsibility; (6) provides project management support to SBI; (7) develops and communicates vision/mission, strategic plans and goals/priorities for SBI and in alignment with OCOO; (8) prepares special reports and studies, as required, in collaboration with and support of SBI; and (9) serves as coordinator of continuity of operations activities for SBI.

Management Operations Activity (CAJT12). (1) provides overall budgetary, employee relations, human capital management, logistics and administrative support; (2) collaborates and maintains liaison with management officials to monitor and address priority issues of concern to CDC leadership; (3) provides direction, strategy, analysis, and operational support in all aspects of human capital management, including workforce and career development and human resources operations; (4) manages internal operational budget processes, including planning, execution, and monitoring; (5) manages internal acquisition processes; (6) serves as point of contact on all matters concerning facilities management, property management, equipment, travel, and space utilization and improvements; (7) coordinates SBI requirements relating to contracts, grants, cooperative agreements, and reimbursable agreements; (8) develops and implements administrative policies, procedures, and operations, as appropriate, for SBI; and (9) maintains liaison with related CDC components and other officials.

Office of Business Integrity and Strategic Management (CAJTB). (1) provides fiscal advisory services; (2) researches and analyzes fiscal issues and recommends solutions to address appropriations law matters (i.e., clearance for roller bags, sit-stand workstations; food purchases, etc.); (3) evaluates and conducts agency-wide enterprise risk monitoring and management training and support, assisting programs with assessments, building the agency risk profile, and conducting special studies; (4) conducts special reviews and appraises the adequacy and effectiveness of agency-wide practices and operations; (5) coordinates responses to the OIG hotline and other agency special reviews; (6) serves as the representative for the CDC Gift Review Panel; and (7) oversees the management and implementation of the CDC Conference Management Approval System to ensure agency fiscal and risk management in association with conferences, collaborates with the Office of Financial Resources travel office in this endeavor.

Office of the Federal Advisory Committee Act Program (CAJTC). (1) provides Federal Advisory Committee Act (FACA) program oversight and management, including assessments of applicability and guidance to all committees, boards and other groups established by law, the President, HHS or CDC officials; (2) provides FACA and ethics training for committee members and CDC staff and FACA applicability training to CDC programs and employees; (3) manage FACA ethics compliance, conflict of interest mitigation, and financial disclosure forms for special government employees serving on FACA committees and boards; (4) manages and supports scheduling all advisory committees meetings, and facilitates Federal Register notice postings; (5) oversees committee operations to include nomination and charter packages, correspondence procedures, and other documents related to committee members and management; and (6) coordinates with HHS/CDC officials on FACA-related matters to support compliance with FACA statutory, regulatory, and policy requirements.

Office of Management Analysis (CAJTD). (1) consults with and provides technical assistance to CDC programs, HHS, and interagency partners, as appropriate, on operational policies; (2) develops, coordinates, and formalizes CDC operational policies; (3) oversees and manages the operational policy management process, requirements, and database; (4) oversees the records management program; (5) serves as the liaison to the National Archives and Records Administration (NARA); (5) provides training and support to all programs on Federal records management requirements and best practices; (6) ensures compliance with NARA and Federal records management requirements; and (7) interprets, analyzes, and makes recommendations concerning delegations of program and administrative authorities and develops appropriate delegating documents; (8) consults with and provides technical assistance to CDC program officials seeking to establish, modify, or abolish organizational structures and functions; (9) manages the official standard administrative codes, coordinating with HHS as appropriate; and (10) manages processes, procedures, requirements, and databases for delegations of authority and organizational structures and functions.

Office of Transformation and Change Management (CAJTE). (1) develops, enables, and promotes an OCOO transformation framework and learning organization; (2) develops and applies a structured approach to change management to promote participation and buy-in; (3) creates and maintains an internal collaboration site for programs to share and build upon innovative ideas and operational improvements; (4) establishes continuous process improvement “community of practice” to validate and share best practices across OCOO and CDC; (5) promotes a culture of continuous improvement through training, consultative services, facilitation and technical support to build process improvement expertise throughout OCOO; and (6) provide support to programs in their project work driving innovation including facilitating faster access to and dissemination of data and increased effectiveness in services to support CDC's overall mission.

V. Under Part C, Section C-B, Organization and Functions, the following organizational unit is deleted in its entirety:

Office of Strategic Business Initiatives (CAJ13) within the Office of the Director, Office of the Chief Operating Officer.

Delegations of Authority

All delegations and redelegations of authority made to officials and employees of affected organizational components will continue in them or their successors pending further redelegation, provided they are consistent with this reorganization.

(Authority: 44 U.S.C. 3101)

Robin D. Bailey, Jr.,
Chief Operating Officer, Centers for Disease Control and Prevention.

[FR Doc. 2023-14697 Filed 7-11-23; 8:45 am]

BILLING CODE 4163-18-P